DEPARTMENT OF ENERGY

Federal Energy Regulatory Commission

[Docket No. CP99-392-000; Docket No. CP00-17-000]

Transcontinental Gas Pipe Line Corp.; South Carolina Public Service Authority; Notice of Availability of the Environmental Assessment for the Proposed Southcoast Expansion Project and Santee Cooper Natural Gas Pipeline Project

March 31, 2000.

The staff of the Federal Energy Regulatory Commission (FERC or Commission) has prepared an environmental assessment (EA) on the natural gas pipeline facilities proposed by Transcontinental Gas Pipe Line Corporation (Transco) and the South Carolina Public Service Authority (Santee Cooper) in the above-referenced dockets.

The EA was prepared to satisfy the requirements of the National Environmental Policy Act. The staff concludes that approval of the proposed project, with appropriate mitigating measures, would not constitute a major Federal action significantly affecting the quality of the human environment.

The EA assesses the potential environmental effects of the construction and operation of the proposed underground gas pipeline loops and aboveground facilities including:

• About 11.3 miles of a 42-inch-diameter pipeline loop (designated as Loop E) in Choctaw and Marengo Counties, Alabama; installation of a pig launcher upstream of the loop in Choctaw County; and installation of a pig receiver and liquid scrubber at Station 90 in Marengo County;

• About 13.9 miles of a 48-inch-diameter pipeline loop (designated as Loop E) in Marengo, Perry and Dallas Counties, Alabama; and relocation of an existing pig receiver currently at the origin of the loop in Marengo County to the ending point in Dallas County;

• About 19 miles of a 24-inch-diameter pipeline loop (designated as the North Georgia Extension Loop) in Walton and Gwinnett Counties, Georgia; installation of a new pig launcher and valve at Station 125 in Walton County; and installation of a new pig receiver and valve at the terminus of the loop in Gwinnett County;

• About 2.1 miles of a 16-inch-diameter pipeline (designated as the Santee Cooper pipeline) to connect the planned Rainey Generating Station in Anderson County, South Carolina, to the Transco system at a new delivery tap and meter station in Hart County, Georgia;

• Addition of a new 15,000 horsepower (hp) gas turbine-powered compressor unit at Compressor Station 105 in Coosa County, Alabama;

• Addition of a new 16,500 hp electric motor driven compressor unit and gas coolers at Compressor Station 115 in Coweta County, Georgia;

• Rewheeling of Compressor Unit 16 at Compressor Station 120 in Henry County, Georgia; and

• Installation of new suction piping at Compressor Station 100 in Chilton County, Alabama, to allow sufficient gas to flow to Compressor Unit 10.

The purpose of the proposed facilities would be to provide about 204,099 dekatherms per day of new firm transportation capacity on Transco's existing system, and to provide up to 80,000 dt/day to Santee Cooper's planned Rainey Generating Station. Transco is proposing the project in order to meet projected growth needs of twelve of its natural gas customers in the southeastern market. The proposed Rainey Generating Station is needed to meet current and future growth in Santee Cooper's marketing area while maintaining adequate reserve of electric power.

The EA has been placed in the public files of the FERC. A limited number of copies of the EA are available for distribution and public inspection at: Federal Energy Regulatory Commission, Public Reference and Files Maintenance Branch, 888 First Street, N.E., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send two copies of your comments to: Secretary, Federal Energy Regulatory Commission, 888 First St., N.E., Room 1A, Washington, DC 20426;

• Label one copy of the comments for the attention of the Environmental Review and Compliance Branch, PJ-11.2;

• Reference Docket Nos. CP99-392-000 and CP00-17-000; and

• Mail your comments so that they will be received in Washington, DC on or before May 1, 2000.

Comments will be considered by the Commission but will not serve to make the commenter a party to the proceeding. Any person seeking to become a party to the proceeding must file a motion to intervene pursuant to Rule 214 of the Commission's Rules of Practice and Procedures (18 CFR 385.214).

The date for filing timely motions to intervene in this proceeding has passed. Therefore, parties now seeking to file late interventions must show good cause, as required by section 385.214(b)(3), why this time limitation should be waived. Environmental issues have been viewed as good cause for late intervention. You do not need intervenor status to have your comments considered.

Linwood A. Watson, Jr.,
Acting Secretary.

[FR Doc. 00-8464 Filed 4-5-00; 8:45 am]

BILLING CODE 6717-01-M